SOCIAL SECURITY ADMINISTRATION

Rescission of Social Security Acquiescence Ruling 00-2(7)

AGENCY: Social Security Administration.

ACTION: Notice of Rescission of Social Security Acquiescence Ruling (AR) 00-2(7)—Hickman v. Apfel, 187 F.3d 683 (7th Cir. 1999).

SUMMARY: In accordance with 20 CFR 402.35(b)(2), 404.985(e), and 416.1485(e), the Commissioner of Social Security gives notice of the rescission of Social Security AR 00-2(7).

DATES: Effective Date: The rescission of this AR will be effective on March 30, 2006.

FOR FURTHER INFORMATION CONTACT: Gary Sargent, Office of the General Counsel, Social Security Administration, 6401 Security Boulevard, Baltimore, MD 21235-6401, (410) 965-1695 or TTY (410) 966-5609.

SUPPLEMENTARY INFORMATION: An AR explains how we will apply a holding in a decision of a United States Court of Appeals that we determine conflicts with our interpretation of a provision of the Social Security Act (the Act) or regulations when the Government has decided not to seek further review of that decision or is unsuccessful on further review.

As provided by 20 CFR 404.985(e)(4) and 416.1485(e)(4), we may rescind an AR as obsolete if we subsequently clarify, modify, or revoke the regulation or ruling that was the subject of the circuit court holding for which the Acquiescence Ruling was issued.

On May 3, 2000, we published AR 00-2(7) (65 FR 25783) to reflect the holding in Hickman v. Apfel, 187 F.3d 683 (7th Cir. 1999). In Hickman, the United States Court of Appeals for the Seventh Circuit held that, when deciding whether an individual's impairment(s) is medically equal to a listed impairment, the decision must be made based on medical evidence alone. Additionally, the court limited the definition of medical evidence to evidence from medical sources. The court interpreted 20 CFR 416.926(b) more narrowly than we intended.

In this issue of the Federal Register, we are publishing final rules that, among other things, amend Social Security Regulations No. 4 and 16 (20 CFR 404.1526 and 416.926) to clarify our longstanding policy that, when deciding whether your impairment(s) is medically equal to a listed impairment, the phrase “medical evidence” includes not just findings reported by medical sources but other information about your medical condition(s) and its effects, including your own description of your impairment(s).

Because the changes in the regulations clarify our policy that was the subject of the Hickman AR, we are rescinding AR 00-2(7) concurrently with the effective date of the final rules. The final rules and this notice of rescission restore uniformity to our nationwide system of rules, in accordance with our commitment to the goal of administering our programs through uniform national standards.

We will continue to apply this AR to your claim if it is readjudicated under our acquiescence rules (see 20 CFR 404.985(b)(2) and 416.1485(b)(2)).

(Catalog of Federal Domestic Assistance, Program Nos. 96.001 Social Security—Disability Insurance; 96.002 Social Security—Retirement Insurance; 96.004 Social Security—Survivors Insurance; 96.006—Supplemental Security Income.)
Dated: December 12, 2005.
Jo Anne B. Barnhart,
Commissioner of Social Security.

[FR Doc. 06-1873 Filed 2-28-06; 8:45 am]

BILLING CODE 4191-02-P